DEPARTMENT OF TRANSPORTATION

National Highway Traffic Safety Administration

[Docket No. NHTSA-2013-0015; Notice 1]

Notice of Receipt of Petition for Decision That Nonconforming 2012 Porsche GT3RS Passenger Cars Are Eligible for Importation

AGENCY: National Highway Traffic Safety Administration, DOT.

ACTION: Receipt of petition.

SUMMARY: This document announces receipt by the National Highway Traffic Safety Administration (NHTSA) of a petition for a decision that nonconforming 2012 Porsche GT3RS passenger cars that were not originally manufactured to comply with all applicable Federal Motor Vehicle Safety Standards (FMVSS), are eligible for importation into the United States because they are substantially similar to vehicles that were originally manufactured for sale in the United States and that were certified by their manufacturer as complying with the safety standards (the U.S.-certified version of the 2012 Porsche GT3RS) and they are capable of being readily altered to conform to the standards.

DATES: The closing date for comments on the petition is May 6, 2013.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. § 30115, and of the same model year as the model of the motor vehicle to be compared, and is capable of being readily altered to conform to all applicable FMVSS.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC. of Baltimore, Maryland (Registered Importer 90-006) has petitioned NHTSA to decide whether nonconforming 2012 Porsche GT3RS passenger cars are eligible for importation into the United States. The vehicles which J.K. Technologies believes are substantially similar are 2012 Porsche GT3RS passenger cars that were manufactured for sale in the United States and certified by their manufacturer as conforming to all applicable FMVSS.

The petitioner claims that it compared non-U.S. certified 2012 Porsche GT3RS passenger cars to their U.S.-certified counterparts, and found the vehicles to be substantially similar with respect to compliance with most FMVSS.

J.K. Technologies submitted information with its petition intended to demonstrate that non-U.S. certified 2012 Porsche GT3RS passenger cars, as originally manufactured, conform to many FMVSS in the same manner as their U.S. certified counterparts, or are capable of being readily altered to conform to those standards. Specifically, the petitioner claims that non-U.S. certified 2012 Porsche GT3RS passenger cars are identical to their U.S. certified counterparts with respect to compliance with Standard Nos. 102 Transmission Shift Lever Sequence, Starter Interlock, and Transmission Braking Effect, 103 Windshield Defrosting and Defogging Systems, 104 Windshield Wiping and Washing Systems, 106 Brake Hoses, 113 Hood Latch System, 116 Motor Vehicle Brake Fluids, 124 Accelerator Control Systems, 126 Electronic Stability Control Systems, 135 Light Vehicle Brake Systems, 138 Tire Pressure Monitoring Systems, 139 New Pneumatic Radial Tires for Light Vehicles, 201 Occupant Protection in Interior Impact, 202 Head Restraints, 204 Steering Control Rearward Displacement, 206 Door Locks and Door Retention Components, 210 Seat Belt Assembly Anchorages, 212 Windshield Mounting, 216 Roof Crush Resistance, 219 Windshield Zone Intrusion, and 302 Flammability of Interior Materials.

The petitioner also contends that the vehicles are capable of being readily altered to meet the following standards, in the manner indicated:

Standard No. 101 Controls and Displays: replacement of the instrument cluster with a U.S.-model component and reprogramming the vehicle computer.

Standard No. 108 Lamps, Reflective Devices and Associated Equipment: replacement of the headlamps, side marker lamps, and tail lamps with U.S.-model components and reprogramming the vehicle computer to activate necessary systems.

Standard No. 110 Tire Selection and Rims for Motor Vehicles with a GVWR of 4,536 kilograms (10,000 pounds) or Less: installation of a tire information placard.

Standard No. 111 Rearview Mirrors: replacement of the passenger side rearview mirror with a U.S.-model component or inscription of the required warning statement on the face of that mirror.

Standard No. 114 Theft Protection and Rollaway Prevention: reprogramming the vehicle computer to activate the key warning and belt warning systems.

Standard No. 118 Power-operated Window, Partition, And Roof Panel Systems: reprogramming the vehicle computer to conform to the standard.

Standard No. 205 Glazing Materials: inspecting each vehicle for compliance with the standard and replacement of nonconforming glazing with U.S.-model components as needed.

Standard No. 207 Seating Systems: replacement of driver's and passenger seats with U.S.-model components to accommodate an advanced airbag system.

Standard No. 208 Occupant Crash Protection: The petitioner states that all parts of these systems, including the belts, airbags, sensors, control units (ECU), wiring harnesses, knee bolsters, and braces, must be replaced with parts identical to the U.S.-model components. The petitioner also states: “Due to the varying regulations around the world all parts of these systems must be inspected to verify the U.S. part numbers on all belts and control unit.”

Standard No. 209 Seat Belt Assemblies: replacement of seatbelts with updated components to address a safety recall campaign.

Standard No. 301 Fuel System Integrity: installation of a U.S.-model rollover valve in the fuel tank vent line.

Standard No. 401 Interior Trunk Release: installation of U.S.-model interior trunk release components.

The petitioner states that the bumpers and bumper support structure are identical to that of the U.S. certified model. However, the bumper shocks must be replaced with U.S.-model components and “Bumper Extensions” must also be added to comply with 49 CFR part 581.

The petitioner additionally states that a vehicle identification plate must be affixed to the vehicles near the left windshield post to meet the requirements of 49 CFR part 565.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Issued on: March 29, 2013.
Claude H. Harris,
Director, Office of Vehicle Safety Compliance.

[FR Doc. 2013-07846 Filed 4-3-13; 8:45 am]

BILLING CODE 4910-59-P